DEPARTMENT OF AGRICVULTURE

Forest Service

Big Butte Springs Timber Sales, Rogue River-Siskiyou National Forest, Jackson County, OR

AGENCY: Forest Service, USDA.

ACTION: Notice of intent to prepare an environmental impact statement.

SUMMARY: The purpose of the Environmental Impact Statement (EIS) is to analyze and disclose the environmental impacts of a site-specific proposal to implement vegetation density management treatments, plant trees, construct, reconstruct, and decommission roads, implement connected wildlife project, and conduct prescribed burns. The activities are proposed in the Big Butte Springs Watershed located on National Forest System Lands administered by the Rogue River-Siskiyou National Forest, Butte Falls Ranger District, Jackson County, Oregon. The proposed action will tier to and be designed under the Final Environmental Impact Statement for the Rogue River National Forest Land and Resource Management Plan (1990), as amended by the Record of Decision for the Northwest Forest Plan (1994), which provides guidance for land management activities. The Forest Service will give notice of the full environmental analysis and decision making process so that interested and affected people are made aware as to how they may participate and contribute to the final decision.

DATES: Issues and comments concerning the scope, implementation, and analysis of the Proposed Action must be received by May 15, 2004. The Draft EIS is expected to be filed with the Environmental Protection Agency (EPA) and be available for review by July 2004. The comment period for the Draft EIS will be 45 days from the date that the EPA publishes the notice of availability in the Federal Register. The Final EIS is scheduled for completion by November 2004.

ADDRESSES: Submit written comments regarding the Proposed Action to Joel King, District Ranger, Prospect Ranger District, 47201 Hwy 62, Prospect, Oregon 97536.

FOR FURTHER INFORMATION CONTACT: Direct questions about the Proposed Action and EIS to Don Boucher, Interdisciplinary Team Leader, Prospect Ranger District, 47201 Highway 62, Prospect, Oregon 97536, phone: (541) 560-3400, fax: (541) 560-3444, e-mail: comments_pacificnorthwest_rogueriver_buttefalls_prospect@fs.fed.us.

SUPPLEMENTARY INFORMATION: The Big Butte Timber Sales project will take place within the upper portion of the Big Butte Springs Watershed. This sub-watershed is also referred to as the Medford Watershed because it supplies domestic water to the city of Medford, Oregon and surrounding communities. Only National Forest System Lands would be treated. The legal description of the area being considered is: T 35 S, R 3 E, sections 13, 22-36; T 35 S, R 4 E, sections 7-34; T 36 S, R 3 E, sections 1-17, 21-28, 35 & 36; T 36 S, R 4 E, sections 3-8, 16-21, & 27-33; Willamette Meridian, Jackson County, Oregon.

Proposed Action

The Forest Service is proposing to implement activities that include, in part, multiple timber sales involving approximately 8,800 acres of harvest units. Silvicultural prescriptions include: density management of overstocked stands of trees in existing plantations (approximately 4,300 acres); small group selection or even-aged management of existing shelterwood stands of trees (approximately 1,900 acres); individual tree removal to treat insect and/or disease infected trees (approximately 2,100 acres); and density management of small diameter (6 to 9 inches) trees for forest health and stand development (approximately 500 acres). Other projects include road decommissioning (approximately 13 miles), prescribed fire for wildlife habitat improvement and wildlife improvement projects. Minor amounts of new road construction or reconstruction may be necessary to access harvest units. These activities are proposed on Matrix lands associated with the Northwest Forest Plan. Incidental treatments, not including timber harvest, are proposed within Riparian Reserves. The Big Butte Springs Watershed is not a Tier 1 Key Watershed. No activities are planned within any inventoried roadless areas.

Purpose and Need

The purpose and need for the proposed action is to plan timber sales and associated road and vegetation management activities to implement management direction from the Rogue River National Forest Land and Resource Management Plan and the Northwest Forest Plan and to manage for ecosystem objectives. Specific needs of the proposed actions are to: (1) Improve forest health by managing high risk insect and disease areas to encourage more resilient forest vegetation conditions; (2) manage stand densities, species composition, and stand structure in overstocked sapling, pole, and mature stands; (3) manage, maintain, or restore current soil and water quality conditions degraded as a result of past management activities within the Big Butte Springs Municipal Watershed; (4) manage, maintain, and/or restore current big game winter range conditions; (5) manage, maintain, and/or restore snag and coarse down wood material conditions in areas that are deficient; and (6) provide a sustainable yield of commercial timber and other commodities, in concert with land management allocation and direction.

The Forest Service will also consider issues with the proposed action, and develop additional alternatives to the proposed action that respond to significant issues.

Public participation will be important during the analysis. Reviewers may refer to the Council on Environmental Quality Regulations for implementing the procedural provisions of the National Environmental Policy Act at 40 CFR 1501.7. The Agency will be seeking written issues with the proposed action from Federal, State, and local agencies, any affected Indian tribes, and other individuals who may be interested in or affected by the proposed action. This input will be used to develop additional alternatives.

Public Participation in Subsequent Environmental Review

This notice of intent initiates the scoping process under NEPA, which will guide the development of the draft EIS.

Comments received in response to this notice, including names and addresses of those who comment, will be considered part of the public record on this proposed action and will be available for public inspection. Comments submitted anonymously will be accepted and considered, however, whose who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the requester for confidentiality, and where the request is denied, the agency will return the submission and notify the requester that the comments may be resubmitted with or without name and address within a specified number of days.

The Forest Service believes it is important to give Reviewers notice at this early stage of several court rulings related to public participation in the environmental review process. First, a reviewer of a Draft EIS must structure their participation in the environmental review process of the proposal so that it is specific, meaningful, and alerts an agency to the reviewer's position and contentions. Vermont Yankee Power Corp. v. NRDC, 435 U.S. 519.533 (1978). Also, environmental objections that cold be raised at the Draft EIS stage, but that are not raised until after the completion of the Final EIS, may be waived or dismissed by the courts. City of Angoon v. Hodel, 803 F.2d. 1016, 1022 (9th Cir. 1986) and Wisconsin Heritages, Inc. v. Harris, 409 F. Supp. 1334, 1338 (E.D. Wis. 1980). Because of these court rulings, it is very important that those interested in this Proposed Action participate by the close of the 45 day comment period so that substantive comments and objections are made available to the Forest Service at a time when it can meaningfully consider and respond to them in the Final EIS.

To assist the Forest Service in identifying and considering issues and concerns on the proposed action, comments to the Draft EIS should be as specific as possible. It is also helpful if comments refer to specific pages or chapters of the Draft EIS. Comments may also address the inadequacy of the Draft EIS or the merits of the alternatives formulated and discussed in the EIS. Reviewers may wish to refer to the Council on Environmental Quality Regulations for implementing the procedural provisions of the National Environmental Policy Act at 40 CFR 1503.3 in addressing these points.

After the 45 day comment period ends on the Draft EIS, comments will be considered and analyzed by the Agency in preparing the Final EIS. In the Final EIS, the Forest Service is required to respond to the comments and responses received during the comment period that pertain to the environmental consequences discussed in the Draft EIS and applicable laws, regulations, and policies considered in making the decision regarding the proposal.

The Forest Service Responsible Official is Scott D. Conroy, Rogue River-Siskiyou National Forest Supervisor. The Responsible Official will consider the Final EIS, applicable laws, regulations, policies, and analysis files in making a decision. The Responsible Official will document the decision and rationale in the Record of Decision. The decision will be subject to appeal by the general public under regulation 36 CFR part 215.

Dated: April 5, 2004.
V. Grilley,
Deputy Forest Supervisor.

[FR Doc. 04-8195 Filed 4-9-04; 8:45 am]

BILLING CODE 3410-11-M